NATIONAL CREDIT UNION ADMINISTRATION

Sunshine Act: Notice of Agency Meeting

TIME AND DATE: 10:00 a.m., Thursday, January 23, 2020.

PLACE: Board Room, 7th Floor, Room 7047, 1775 Duke Street (All visitors must use Diagonal Road Entrance), Alexandria, VA 22314-3428.

STATUS: Open.

MATTERS TO BE CONSIDERED:

1. 2020 Annual Performance Plan.

2. Board Briefing, Civil Money Penalty Statutory Inflation Adjustment.

3. NCUA's Rules and Regulations, Credit Union Combination Transactions.

4. NCUA's Rules and Regulations, Subordinated Debt.

5. Federal Credit Union Loan Interest Rate Ceiling.

Recess: 11:30 a.m.

TIME AND DATE: 11:45 a.m., Thursday, January 23, 2020.

PLACE: Board Room, 7th Floor, Room 7047, 1775 Duke Street, Alexandria, VA 22314-3428.

STATUS: Closed.

MATTERS TO BE CONSIDERED:

1. Supervisory Action. Closed pursuant to Exemptions (8), (9)(i)(B), and (9)(ii).

2. Personnel Action. Closed pursuant to Exemptions (2), and (6).

3. Personnel Action. Closed pursuant to Exemptions (2), and (6).

CONTACT PERSON FOR MORE INFORMATION: Gerard Poliquin, Secretary of the Board, Telephone: 703-518-6304.

Gerard Poliquin,
Secretary of the Board.

[FR Doc. 2020-01010 Filed 1-16-20; 4:15 pm]

BILLING CODE 7535-01-P